DEPARTMENT OF COMMERCE

International Trade Administration

[A-570-977]

High Pressure Steel Cylinders From the People's Republic of China: Final Results of the Expedited First Sunset Review of the Antidumping Duty Order

AGENCY: Enforcement and Compliance, International Trade Administration, Department of Commerce.

SUMMARY: As a result of this sunset review, the Department of Commerce (the Department) finds that revocation of the antidumping duty order on certain high pressure steel cylinders (HPSCs) from the People's Republic of China (PRC) would be likely to lead to continuation or recurrence of dumping at the levels indicated in the “Final Results of Review” section of this notice.

DATES: Applicable August 28, 2017.

FOR FURTHER INFORMATION CONTACT: Kenneth Hawkins, AD/CVD Operations, Enforcement and Compliance, International Trade Administration, U.S. Department of Commerce, 1401 Constitution Avenue NW., Washington, DC 20230; telephone: (202) 482-6491.

SUPPLEMENTARY INFORMATION:

Background

On June 21, 2012, the Department of Commerce (Department) published the notice of the antidumping duty order on high pressure steel cylinders from the PRC.¹ On April 3, 2017, the Department published the notice of initiation of the first sunset review of the AD Order, pursuant to section 751(c) of the Tariff Act of 1930, as amended (Act).² On May 8, 2017, the Department received a notice of intent to participate from one domestic interested party: Norris Cylinder Company (the petitioner) within the deadline specified in 19 CFR 351.218(d)(1).³ The petitioner claimed interested party status under section 771(9)(C) of the Act, as a manufacturer in the United States of a domestic like product. On May 25, 2017, the petitioner filed its Substantive Response in the sunset review within the 30-day deadline, as specified in 19 CFR 351.218(d)(3).⁴ The Department received no substantive responses from respondent interested parties. As a result, pursuant to section 751(c)(3)(B) of the Act and 19 CFR 351.218(e)(1)(ii)(C)(2), the Department conducted an expedited sunset review of the AD Order.

¹ See High Pressure Steel Cylinders from the People's Republic of China: Antidumping Duty Order, 77 FR 37377 (June 21, 2012) (AD Order).

² See Initiation of Five-Year (Sunset) Review, 82 FR 20314 (May 1, 2017).

³ See High Pressure Steel Cylinders from the People's Republic of China; Notice of Appearance and of Intent to Participate on Behalf of the petitioner, Norris Cylinder Company in Sunset Review of Antidumping Duty Order (May 8, 2017).

⁴ See Letter to the Secretary from the petitioner, High Pressure Steel Cylinders from the People's Republic of China' Substantive Response to Notice of Initiation of Norris Cylinder Company (May 25, 2017) (Substantive Response).

Scope of the Order

The merchandise covered by the Order is seamless steel cylinders designed for storage or transport of compressed or liquefied gas (high pressure steel cylinders). High pressure steel cylinders are fabricated of chrome alloy steel including, but not limited to, chromium-molybdenum steel or chromium magnesium steel, and have permanently impressed into the steel, either before or after importation, the symbol of a U.S. Department of Transportation, Pipeline and Hazardous Materials Safety Administration (DOT)-approved high pressure steel cylinder manufacturer, as well as an approved DOT type marking of DOT 3A, 3AX, 3AA, 3AAX, 3B, 3E, 3HT, 3T, or DOT-E (followed by a specific exemption number) in accordance with the requirements of sections 178.36 through 178.68 of Title 49 of the Code of Federal Regulations, or any subsequent amendments thereof. High pressure steel cylinders covered by the Order have a water capacity up to 450 liters, and a gas capacity ranging from 8 to 702 cubic feet, regardless of corresponding service pressure levels and regardless of physical dimensions, finish or coatings.

Excluded from the scope of the Order are high pressure steel cylinders manufactured to UN-ISO-9809-1 and 2 specifications and permanently impressed with ISO or UN symbols. Also excluded from the Order are acetylene cylinders, with or without internal porous mass, and permanently impressed with 8A or 8AL in accordance with DOT regulations.

Merchandise covered by the Order is classified in the Harmonized Tariff Schedule of the United States (HTSUS) under subheading 7311.00.00.30. Subject merchandise may also enter under HTSUS subheadings 7311.00.00.60 or 7311.00.00.90. Although the HTSUS subheadings are provided for convenience and customs purposes, the written description of the merchandise under the Order is dispositive.

Analysis of Comments Received

A complete discussion of all issues raised in this sunset review, including the likelihood of continuation or recurrence of dumping in the event of revocation of the AD Order and the magnitude of the margins likely to prevail if the AD Order were revoked, is provided in the Issues and Decision Memorandum, which is hereby adopted by this notice.⁵ A list of topics included in the Issues and Decision Memorandum is included as an appendix to this notice. The Issues and Decision Memorandum is a public document and is on file electronically via Enforcement and Compliance's Antidumping and Countervailing Duty Centralized Electronic Services System (ACCESS). ACCESS is available to registered users at http://access.trade.gov and to all parties in the Central Records Unit, room B8024 of the main Department of Commerce building. In addition, a complete version of the Issues and Decision Memorandum can be accessed on the Internet at http://enforcement.trade.gov/frn/. The signed Issues and Decision Memorandum and the electronic version of the Issues and Decision Memorandum are identical in content.

⁵ See Issues and Decision Memorandum.

Final Results of Sunset Review

Pursuant to section 751(c)(1) and 752(c)(1) and (3) of the Act, the Department determines that revocation of the AD Order would be likely to lead to continuation or recurrence of dumping, and that the magnitude of the dumping margins likely to prevail would be weighted-average dumping margins up to 31.21 percent.

Notification to Interested Parties

This notice serves as the only reminder to parties subject to administrative protective order (APO) of their responsibility concerning the return or destruction of proprietary information disclosed under APO in accordance with 19 CFR 351.305. Timely notification of the return or destruction of APO materials, or conversion to judicial protective order, is hereby requested. Failure to comply with the regulations and terms of an APO is a violation which is subject to sanction.

We are issuing and publishing these results and notice in accordance with sections 751(c), 752(c), and 777(i)(1) of the Act and 19 CFR 351.218.

Dated: August 28, 2017.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. History of the Order

V. Discussion of the Issues

1. Likelihood of Continuation or Recurrence of Dumping

2. Magnitude of the Margins Likely to Prevail

VI. Final Results of Sunset Review

VII. Recommendation

[FR Doc. 2017-18590 Filed 8-31-17; 8:45 am]

BILLING CODE 3510-DS-P